DEPARTMENT OF HEALTH AND HUMAN SERVICES

Administration for Children and Families

[Program Notice No. ACF/ACYF/RHYP 2002-02]

Notice of Availability of Financial Assistance and Request for Applications for the Runaway and Homeless Youth Programs

AGENCY: Family and Youth Services Bureau, Administration on Children, Youth and Families, ACF, HHS.

ACTION: This Notice announces the availability of financial assistance and request for applications for the FY 2002 Basic Center Program for Runaway and Homeless Youth (BCP), FY 2002 and 2003 Transitional Living Program (TLP) and FY 2002 Training and Technical Assistance (T&TA) Cooperative Agreements.

This Notice announces the availability of the full official Program Announcement for Fiscal Year 2002 Basic Center Program for Runaway and Homeless Youth (BCP), FY 2002 and 2003 Transitional Living Program (TLP) and FY 2002 Training and Technical (T&TA) Assistance Cooperative Agreements. The full official announcement must be used to apply for grant funding under the competitive grant areas and is available by calling or writing the ACYF Operations Center (address below) or by downloading the announcement from the FYSB website at http://www.acf.dhhs.gov/programs/fysb.

Legislative Authority: The Runaway and Homeless Youth Act (RHY Act) as amended by PL 106-71 authorizes grants for Runaway and Homeless Youth programs.

Deadlines: The deadline for RECEIPT of applications for a new grant under this announcement is:

CFDA# | Programs | Deadline dates | Deadline times
93.623 | Basic Center Program | May 3, 2002 | 4:30 p.m. (EDT)
93.623 | Training and Technical Assistance Cooperative Agreements | May 3, 2002 | 4:30 p.m. (EDT)
93.550 | Transitional Living Program (Fiscal Year 2002 Funding) | May 10, 2002 | 4:30 p.m. (EDT)
93.550 | Transitional Living Program (Fiscal Year 2003 Funding) | May 10, 2002 | 4:30 p.m. (EDT)

Mailing and Delivery Instructions: Applications must be in hard copy. Mailed applications and applications hand delivered (by applicants, applicant couriers, overnight/express mail couriers or any other method of hand delivery) shall be considered as meeting an announced deadline if they are received on or before the deadline, at the following address: ACYF Operations Center, 1815 North Fort Myer Drive, Suite 300, Arlington, VA 22209, Telephone: 1-800-351-2293, Email: FYSB@lcgnet.com.

Applications may be hand delivered to the above address between the hours of 8 a.m. and 4:30 p.m. (EDT), Monday through Friday (excluding Federal Holidays).

Applicants are responsible for mailing and delivering applications well in advance of deadlines to ensure that the applications are received on time. Applications received after 4:30 p.m. (EDT) on the deadline date will be classified as late. Postmarks and other similar documents do not establish receipt of an application.

ACF will not accept applications delivered by fax or e-mail regardless of date or time of submission and receipt.

Late Applications: Applications which do not meet the criteria stated above and are not received by the deadline date and time are considered late applications. The Administration for Children and Families (ACF) will notify each late applicant that its application will not be considered in the current competition.

Extension of Deadline. ACF may extend an application deadline for applicants affected by acts of God such as floods and hurricanes, or when there is widespread disruption of the mail service, or for other disruptions of services, such as a prolonged blackout, that affect the public at large. A determination to waive or extend deadline requirements rests with the Chief Grants Management Officer.

SUPPLEMENTARY INFORMATION: Grant awards for FY 2002 funds will be made by September 30, 2002 for the Basic Center Program and Training and Technical Assistance Cooperative Agreement and Transitional Living Program. Transitional Living Program Fiscal Year 2003 grant awards will be made after September 30, 2002.

The estimated funds available for new starts and the approximate number of new grants that may be awarded under this program announcement are as follows:

Competitive grant area | New start funds available | Estimated number of new grants
A. BCP | $9,700,000 | 100
*B. TLP | 19,000,000 (FY 2002) | 100
TLP | 11,200,000 (FY 2003) | 60
C. T&TA | 2,000,000 | 10
* All information stated in the full official program announcement under Transitional Living Program, CFDA #93.550, Competitive Area B, is applicable to grant applications submitted for TLP Fiscal Year 2002 funds and TLP Fiscal Year 2003 funds.

In addition to the new start grants, the Administration for Children and Families has provided for noncompetitive continuation funds to current grantees in the following programs:

Grant areas | Noncompetitive continuation funds | Number of grants
A. BCP | $32,105,587 | 270
B. TLP | 7,405,040 | 37

Part I. Competitive Grant Areas and Summaries of Evaluation Criteria

Applicants must refer to the specific evaluation criteria for each competitive area contained in the official Program Announcement in order to adequately prepare their applications.

A. Basic Center Program, CFDA#93.623 (Competitive Grant Area A)

Program Purpose, Goals and Objectives: The purpose of Part A of the RHY Act is to establish or strengthen locally-controlled, community-based programs that address the immediate needs of runaway and homeless youth and their families. Services must be delivered outside of the law enforcement, child welfare, mental health and juvenile justice systems. The program goals and objectives of the Basic Center Program of Part A of the RHY Act are to:

• Alleviate problems of runaway and homeless youth;

• Reunite youth with their families and encourage the resolution of intra-family problems through counseling and other services;

• Strengthen family relationships and encourage stable living conditions for youth; and

• Help youth decide upon constructive courses of action.

Background: The Runaway and Homeless Youth Act of 1974 was a response to widespread concern regarding the alarming number of youth who were leaving home without parental permission, crossing State lines and who, while away from home, were exposed to exploitation and other dangers of street life.

Each Basic Center program is required to provide outreach to runaway and homeless youth; temporary shelter for up to fifteen (15) days; food; clothing; individual, group and family counseling; aftercare and referrals, as appropriate. Basic Center programs provide services in residential settings for at least four (4) youth and no more than twenty (20). Some programs also provide some or all of their shelter services through host homes (usually private homes under contract to the centers), with counseling and referrals being provided from a central location. Basic Center programs shelter youth at risk of separation from the family who are less than 18 years of age and who have a history of running away from the family and runaway and homeless youth under the age of 18. Basic Centers must provide age-appropriate services or referrals for homeless youth ages 18-21.

The primary presenting problems of youth who receive shelter and non shelter services through FYSB-funded Basic Centers include: (1) Conflict with parents or other adults, including physical, sexual and emotional abuse; (2) other family crises such as divorce, death, or sudden loss of income; and (3) personal problems such as drug use, problems with peers, school attendance and truancy, bad grades, inability to get along with teachers and learning disabilities.

Eligible Applicants: Any State, unit of local government, (and combination of such units) are eligible to apply for Basic Center Program funding. Any private nonprofit agency, organization or institution is eligible to apply for these funds. Federally recognized Indian Tribes are eligible to apply for Basic Center grants. Indian Tribes that are not federally recognized and urban Indian organizations are also eligible to apply for grants as private, nonprofit agencies. Faith-based organizations and small community-based organizations are eligible to apply for Basic Center grants.

Current Basic Center grantees with project periods ending on or before September 30, 2002, and all other eligible applicants not currently receiving Basic Center funds may apply for a new competitive Basic Center grant under this announcement.

Current Basic Center Program grantees (including subgrantees) with one or two years remaining on their current grant and the expectation of continuation funding in FY 2002 may not apply for a new Basic Center grant for the community they currently serve. These grantees will receive instructions from their respective ACF Runaway and Homeless Youth Regional Office contacts on the procedures for applying for noncompetitive continuation grants. Current grantees, who have questions regarding their eligibility to apply for new funds, should consult with the appropriate Regional Office Youth Contact, listed in Part V, Appendix B of the full official program announcement, to determine if they are eligible to apply for a new grant award.

Funding: The Family and Youth Services Bureau expects to award approximately $9,700,000 for approximately 100 new competitive Basic Center Program grants. In accordance with the RHY Act, the funds will be divided among the States in proportion to their respective populations under the age of 18, according to the latest census data. A minimum of $100,000 will be awarded to each State, the District of Columbia and Puerto Rico. A minimum of $45,000 will be awarded to each of the four insular areas: Guam, American Samoa, the Commonwealth of the Northern Marianas and the Virgin Islands.

All applicants under this competitive grant area will compete with other eligible applicants in the State in which they propose to deliver services. In the event that there are insufficient numbers of applications approved for funding in any State or jurisdiction, the Commissioner of ACYF will reallocate the unused funds.

Federal Share of Project Costs: The maximum Federal share for a 3-year project period is $600,000.

Applicant Share of Project Costs: Basic Center grantees must provide a non-Federal share or match of at least ten percent (10%) of the Federal funds awarded. The non-Federal share may be met by cash or in-kind contributions, although applicants are encouraged to meet their match requirements through cash contributions. Therefore, a three-year project costing $600,000 in Federal funds (based on an award of $200,000 per 12-month budget period) must provide a match of at least $60,000 ($20,000 per budget period). Grantees will be held accountable for commitments of non-Federal resources even if over the amount of the required match. Failure to provide the amount will result in disallowance of Federal match.

Duration of Project: This announcement solicits applications for Basic Center programs of up to three years duration (36-month project periods). Initial grant awards, made on a competitive basis, will be for one-year (12-month) budget periods. Applications for noncompetitive continuation grants beyond the one-year budget periods, but within the 36-month project periods, will be entertained in subsequent years, subject to the availability of funds, satisfactory progress of the grantee and determination that continued funding would be in the best interest of the government.

B. Transitional Living Program, CFDA#93.550 (Competitive Grant Area B)

Program Purpose, Goals and Objectives: The overall purpose of TLP for homeless youth is to establish and operate transitional living projects for homeless youth. This program is structured to help older, homeless youth achieve self-sufficiency and avoid long-term dependency on social services. Transitional living projects provide shelter, skills training, and support services to homeless youth ages 16 through 21 for a continuous period not exceeding 18 months. Transitional Living Program funds are to be used for the purpose of enhancing the capacities of youth-serving agencies in local communities to effectively address the service needs of homeless, older adolescents and young adults, including pregnant and parenting homeless youth. Goals, objectives and activities that may be maintained, improved and/or expanded through a TLP grant must include, but are not necessarily limited to:

• Providing stable, safe living accommodations while a homeless youth is a program participant;

• Providing the services necessary to assist homeless youth in developing both the skills and personal characteristics needed to enable them to live independently;

• Providing education, information and counseling aimed at preventing, treating and reducing substance abuse among homeless youth;

• Providing homeless youth with appropriate referrals and access to medical and mental health treatment;

• Providing the services and referrals necessary to assist youth in preparing for and obtaining employment; and

• Providing the services and referrals necessary to assist youth in preparing for and obtaining secondary, and where feasible, post-secondary education and/or vocational training.

• Providing the services and referrals necessary to assist pregnant and parenting homeless youth with the skills and knowledge necessary to become a more effective parent and lead productive and independent lives.

Background: It is estimated that about one-fourth of the youth served by all runaway and homeless youth programs are homeless. This means that the youth cannot return home or to another safe living arrangement with a relative. Other homeless youth have “aged out” of the child welfare system and are no longer eligible for foster care.

These young people are often homeless through no fault of their own. The families they can no longer live with are often physically and sexually abusive and involved in drug and alcohol abuse. They cannot meet the youth's basic human needs (shelter, food, clothing), let alone provide the supportive and safe environment needed for the healthy development of self-image and the skills and personal characteristics which would enable them to mature into a self-sufficient adult.

Homeless youth, lacking a stable family environment and without social and economic supports, are also at high risk of being involved in dangerous lifestyles and problematic or delinquent behaviors. More than two-thirds of homeless youth served by ACF-funded programs report using drugs or alcohol and many participate in survival sex and prostitution to meet their basic needs.

Homeless youth are in need of a support system that will assist them in making the transition to adulthood and independent living. While all adolescents are faced with adjustment issues as they approach adulthood, homeless youth experience more severe problems and are at greater risk in terms of their ability to successfully make the transition to self-sufficiency and to become a productive member of society.

Pregnant and parenting homeless youth are likely to face poverty, low levels of educational attainment, and long-term dependence on public assistance. Research indicates that children of teenage mothers are more likely to be born prematurely and to be of low birth weight than children born to women who are older. Compared to children born to older women, children of adolescent mothers, in general, do not do as well in school, have higher reported incidences of abuse and neglect, have higher rates of foster care placement, and are more apt to run away from home. As these children get older, the boys are 2.7 times more likely to be involved in criminal behavior, and the girls are 33 percent more likely to become teenage mothers themselves, increasing the likelihood that they will rely on public assistance.

The Transitional Living Program for Homeless Youth specifically targets services to homeless youth and affords youth service agencies with an opportunity to serve homeless youth in a manner which is comprehensive and geared towards ensuring a successful transition to self-sufficiency. The TLP also improves the availability of comprehensive, integrated services for homeless youth, which reduces the risks of exploitation and danger to which these youth are exposed while living on the streets without positive economic or social supports.

Eligible Applicants: Any State, unit of local government, (and combination of such units) are eligible to apply for Transitional Living Program funding. Any private nonprofit agency, organization or institution is eligible to apply for these funds. Federally recognized Indian Tribes are eligible to apply for Transitional Living Programs grants. Indian Tribes that are not federally recognized and urban Indian organizations are also eligible to apply for grants as private, nonprofit agencies. Faith-based organizations and small community-based organizations are eligible to apply for Transitional Living Program grants.

Current TLP grantees (including subgrantees) with project periods ending on or after September 30, 2002, are not eligible to apply for Transitional Living Program fiscal year 2002 program funding to serve the same area. All other eligible applicants not currently receiving TLP funds may apply for a new competitive TLP grant under this announcement for awards in FY 2002 and/or 2003.

(Note: An applicant applying for both FY 2002 and FY 2003 funding must submit a separate application for each fiscal year.)

Current TLP grantees (including subgrantees) with one or two years remaining on their current awards and the expectation of continuation funding in Fiscal year 2003 may not apply for a new TLP grant under this announcement. These grantees will receive instructions from their respective ACF Regional Offices on the procedures for applying for noncompetitive continuation grants. Current grantees, who have questions regarding their eligibility to apply for new funds, should consult with the appropriate Regional Office Runaway and Homeless Youth Contact, listed in Part V, Appendix B of the full official Program Announcement, to determine if they are eligible to apply for a new grant award.

Funding: The Family and Youth Services Bureau expects to award approximately $19,000,000 for approximately 100 new competitive Transitional Living Program grants for fiscal year 2002. The funding is to provide shelter, skill training and support services to assist homeless youth, including pregnant and parenting youth, in making a smooth transition to self-sufficiency and to prevent long-term dependence on social services.

The Family and Youth Services Bureau expects to award approximately $11,200,000 for approximately 60 new competitive Transitional Living Program grants for fiscal year 2003. The funding is to provide shelter, skill training and support services to assist homeless youth, including pregnant and parenting youth, in making a smooth transition to self-sufficiency and to prevent long-term dependency on social services.

Federal Share of Project Costs: Applicants may apply for up to $200,000 per year, which equals a maximum of $1,000,000 for a 5-year project period.

Applicant Share of Project Cost: Transitional Living grantees must provide a non-Federal share or match of at least ten percent (10%) of the Federal funds awarded. (There are certain exceptions for Tribes with “638” funding pursuant to Public Law 93-638, under which certain Federal grant funds may qualify as matching funds for other Federal grant programs, e.g., those which contribute to the purposes for which grants under section 638 were made.) The non-Federal share may be met by cash or in-kind contributions, although applicants are encouraged to meet their match requirements through cash contributions. Therefore, a five-year project costing $1,000,000 in Federal funds (based on an award of $200,000 per 12-month budget period) must include a match of at least $100,000 ($20,000 per budget period).

Duration of Project: This announcement solicits applications for Transitional Living projects of up to five years (60-month project periods). Initial grant awards, made on a competitive basis, will be for one-year (12-month) budget periods. Applications for non competing continuation grants beyond the one-year budget periods, but within the 60-month project periods, will be entertained in subsequent years, subject to the availability of funds, satisfactory progress of the grantee and determination that continued funding would be in the best interest of the government.

C. Training and Technical Assistance Cooperative Agreements, CFDA#93.550 (Competitive Grant Area C)

Program Purpose, Goals and Objectives: The Family Youth Services Bureau supports a national T&TA effort designed to enhance and promote the continuous quality improvement of the services available to runaway, homeless and street youth and their families. The Bureau expects to award approximately $2 million to fund up to ten (10) cooperative agreements to enhance the programmatic and administrative capacities of public and private agencies to provide services to the targeted populations. Applications to provide such assistance may cover one or more of the ten ACF Federal Regions and may include subcontracts to cover specific regional or multi-State areas. Applications must provide assurance that staff will be accessible to the Central and Regional offices. Applicants covering a region should coordinate with other RHY providers in the region. Applicants must show how they intend to provide service to all customers in their service area regardless of geographic location.

Core Elements

The successful applicants are expected to provide the following services and activities as core elements:

1. Immediate Training and Technical Assistance: Provide intensive, skill-based training and technical assistance to newly funded and inexperienced RHY grantees, when requested by the grantee and/or the Runaway and Homeless Youth Regional Contact as a direct outcome of on-site monitoring and/or analysis of Management Information System data.

Provide training and technical assistance to Transitional Living Program grantees on the programmatic modifications required to address the unique needs of pregnant and parenting youth and the various sources of funding available for residential services to this population.

2. Consultation: Provide program specific technical assistance through consultation. Consultation may be on-site, via telephone or any combination of strategies, which address and/or correct programmatic and administrative concerns. Technical assistance designed and/or provided to grantees for this purpose must be accessible and individualized, must provide concrete information and skill building and must include follow-up efforts. The TA delivered will be based upon the specific needs of the grantee(s) requesting the assistance. However, the TA must conform to the intent of the law.

3. Staff Training: Provide staff training focused on quality skill development that: (a) Provides opportunities for hands-on participation, direct observation, practices and expert feedback; (b) analyzes, integrates and transmits knowledge obtained from research findings, curricula, and models of greatest interest to grantees; and (c) recognizes new and emerging youth issues and provides intensive skills training in these areas.

4. Reports Utilization: Use monitoring reports, Management Information System data and corrective action reports for the purpose of providing technical assistance to address the grantees program specific needs. Delivery of T/A will be made in consultation with the Central and Regional Offices and approved by the Federal Project Officer.

5. Information Sharing: Provide a mechanism such as, but not limited to a newsletter, listserve and/or electronic bulletin board for sharing information for the purpose of improving and increasing resources and information available to RHY grantees and, for sharing new and emerging information concerning service provision issues and best practices obtained through interaction with grantees and other youth serving agencies through workshops, conferences and other activities associated with the provision of T&TA.

Cooperative Agreement Provisions

The award of these cooperative agreements (see definition section) will include a delineation of the responsibilities of the successful applicants and the Administration on Children, Youth and Families. The responsibilities contained in each cooperative agreement may be geared toward the unique needs of the RHY programs in the geographic area(s) to be served with a description of the uniqueness of the program, as well as incorporating the core elements, described above, consistent to all RHY programs regardless of geographic area.

Federal Officials Minimum Responsibilities

1. Promote cooperative relationships among training and technical assistance providers, the National Clearinghouse on Families and Youth , and other FYSB support contractors for the exchange of information regarding identified technical assistance and training needs, emerging youth issues, research findings, curricula and model programs.

2. Provide consultation in the development of workplans; review and approval of workplans; coordination and sharing of monitoring data, as appropriate; identification of technical assistance needs; and sponsorship of a national meeting of T&TA providers.

3. Evaluate the effectiveness of the services and activities provided by the T&TA providers to runaway and homeless youth grantees no later than the fourth year of the grants' project periods or year four.

Applicant Minimum Responsibilities

1. Provide the services and activities listed as core elements above under “Program, Purpose, Goals and Objectives” to runaway and homeless youth grantees.

2. Establishment of an advisory board with representation at a minimum from the regional office or HUB, a representative sample of each type of FYSB program in the regional area, the Executive Director of the organization funded under this competitive grant, the Project Director(s) of the State Collaboration Grantees (where applicable) and other State and local youth service providers.

3. Development and implementation of a work-plan (including TA capacity inventory forms, procedures, evaluation strategies/forms, site-visit plans, schedules, etc.), provision of training and technical assistance to grantees, and coordination with other grantee support efforts and T&TA providers.

Background: Since 1975, many State and local agencies and community-based programs have been established and/or strengthened to provide needed short and long-term services to runaway, homeless and street youth. These agencies are both public and private, profit making and nonprofit. Some focus on a single concern, such as crisis intervention or substance abuse prevention, while others are comprehensive or all-purpose agencies, with specific components that deal with the physical health, mental health, family reunification and functioning, employment, education and transitional living needs of these young people.

Notwithstanding the significant numbers of effective agencies and competent professional staff dedicated to assisting runaway, homeless and street youth across the country, services in some geographic areas are inadequate or non-existent. In other cases, existing programs lack staff resources with the full range of skills required to carry out the ever changing responsibilities with which the individual programs are charged. Also, many of the developed and tested curricula and models are little known or understood, even among programs and staff where they could be of the greatest use. Further, as a positive youth development approach has gradually emerged that focuses on a young person's competence, connection to community, altruism, control, autonomy and identity as an alternative to adolescent health and behavioral risks, there is a need to partner with states, local, government, foundations, and community based organizations to establish and support effective long range youth development strategies, funding and policy information. In addition, as new issues emerge, even experienced staff and agency leadership need to enhance their existing skills and develop new ones.

To address these issues, Section 342 of the Runaway and Homeless Youth Act, administered by the Youth and Family Services Bureau, authorizes support to nonprofit organizations for the purpose of providing training and technical assistance (T&TA) to runaway, homeless and street youth service providers.

To effectively provide such assistance, extensive interaction with grantees, integration and sharing of knowledge, coordination with other components supporting the runaway and homeless service system such as RHYMIS and program monitoring, and a cooperative relationship among training and technical assistance providers is needed.

FYSB is supporting a national T&TA effort designed to support the continuous improvement of all RHY grantees as they work to deliver high quality and effective services to youth, young adults and their families. Our T&TA system reflects a national commitment to quality improvement and capacity-building at the local and Regional Hub level.

Eligible Applicants: Nonprofit organizations and combinations of such organizations with demonstrated capacity to provide services to runaway and homeless youth service providers on a Statewide or regional basis. Colleges, universities and faith-based organizations are eligible to apply for the T&TA grants.

Funding: The anticipated Federal funding for the first 12-month budget period will range from $150,000-$250,000 per grant, contingent on the identified service area.

Federal Share of Project Costs: Applicants may apply for up to $250,000 per year, which equals a maximum of $1,250,000 for a 5-year project period.

Applicant Share of Project Costs: Training and Technical Assistance grantees must provide a non-Federal share or match of at least ten percent (10%) of the Federal funds awarded. The non-Federal share may be met by cash or in-kind contributions, although applicants are encouraged to meet their match requirements through cash contributions. Therefore, a five-year project costing $1,250,000 in Federal funds (based on an award of $250,000 per 12-month budget period) must include a match of at least $125,000 ($25,000 per budget period).

Duration of Project: This announcement solicits applications for Training and Technical Assistance grants up to five years (60 month project periods). Grant awards, made on a competitive basis, will be for a one year (12-month) budget period. Applications for continuation grants beyond the one-year budget period, but within the 60 month project period, will be considered in subsequent years on a non-competitive basis, subject to the availability of funds, satisfactory progress of the grantee and determination that continued funding would be in the best interest of the government.

Summary of Evaluation Criteria for Competitive Areas A, B and C (BCP, TLP and T&TA)

Criterion 1: Objectives and Need for Assistance (15 points)

Applications will be judged on how clearly they identify the physical, economic, social, financial, institutional, and/or other problem(s) requiring a solution. The need for assistance must be demonstrated and the principal and subordinate objectives of the project must be clearly stated. Applications will need to specify the goals and objectives of the project and how implementation will fulfill the purposes of the program. Applications should describe the conditions of youth and families in the area to be served; the incidence and characteristics of runaway, homeless or street youth and their families; the existing support systems for at-risk youth and families in the area, including other agencies providing services to runaway and homeless youth in the area.

Applicants must refer to the specific evaluation criteria for each competitive area contained in the full Program Announcement in order to adequately prepare their applications.

Criterion 2: Results or Benefits Expected (20 points)

Applications will be judged on how clearly they identify the results and benefits to be derived, specify services to be provided, who will receive services, where and how these services will be provided, and how the services will benefit the youth families and the community to be served.

Applicants must refer to the specific evaluation criteria for each competitive area contained in the full Program Announcement in order to adequately prepare their applications.

Criterion 3: Approach (35 points)

Applications will be judged on how clearly they outline a plan of action which: describes the scope and detail of how the proposed work will be accomplished; accounts for all functions or activities identified in the application; cites factors which might accelerate or decelerate the work and reasons for taking the proposed approach rather than others. Applications are encouraged to describe any unusual features of the project such as design or technological innovations, reductions in cost or time, or extraordinary social and community involvement.

Applicants must agree to cooperate with any research or evaluation efforts sponsored by the Administration for Children and Families and to submit the required Annual Report to the Secretary of HHS on program activities and accomplishments with statistical summaries and other required program and financial reports, as instructed by FYSB.

Applications will be judged on the extent to which they describe the program's youth development approach or philosophy and indicate how it underlies and integrates all proposed activities. Applicants will be expected to list organizations, cooperating entities, consultants, or other key individuals who will work on the project along with a short description of the nature of their effort or contribution; describe formal service linkages and plans for coordination with other agencies; describe plans for conducting outreach and encouraging awareness of and sensitivity to the diverse needs of runaway and homeless youth who represent particular ethnic and racial backgrounds and sexual orientations. Applicants are encouraged to describe the type, capacity and staff supervision of the shelter that will be available for youth.

Applicants must refer to the specific evaluation criteria for each competitive area contained in the full Program Announcement in order to adequately prepare their applications.

Criterion 4: Staff and Position Data (10 points)

Applicants will be judged on whether they provide a resume and biographical sketch for each key person appointed and a job description for each vacant key position. A biographical sketch will also be required for new key staff as appointed. Applicants will be expected to list organizations and consultants who will work on the program along with a short description of the nature of their effort or contribution.

Applicants will be expected to provide information on plans for training project staff as well as staff of cooperating organizations and individuals and state the expected or estimated ratio of staff to youth.

Applicants must refer to the specific evaluation criteria for each competitive area contained in the full Program Announcement in order to adequately prepare their applications.

Criterion 5: Organizational Profile (10 points)

Applicants will be expected to provide information on the applicant organization(s) and cooperating partners such as organizational charts, financial statements, audit reports or statements from CPAs/Licensed Public Accountants. Any non-profit organization submitting an application must submit proof of its non-profit status in its application at the time of submission.

Applicants will be expected to provide a plan for project continuance beyond grant support, including a plan for securing resources and continuing project activities after Federal assistance has ceased and an annotated listing of applicant's funding sources. Such plans should include written agreements, if applicable, between grantees and subgrantees or subcontractors or other cooperating and letters of support and statements from community, public and commercial leaders that support the project proposed for funding.

Applicants must refer to the specific evaluation criteria for each competitive area contained in the full Program Announcement in order to adequately prepare their applications.

Criterion 6: Budget and Budget Justification (10 points)

Applicants will be expected to provide a detailed line item budget and a narrative budget justification that describes how the categorical costs are derived. Applicants will be judged on how clearly they discuss the necessity, reasonableness, and allocability of the proposed costs and how clearly they describe the fiscal control and accounting procedures that will be used to ensure prudent use, proper disbursement and accurate accounting of funds received.

Applicants must refer to the specific evaluation criteria for each competitive area contained in the full Program Announcement in order to adequately prepare their applications.

Part II. Required Notification of the Single Point of Contact

This program is covered under Executive Order (E.O.) 12372, “Intergovernmental Review of Federal Programs,” and 45 CFR part 100, “Intergovernmental Review of Department of Health and Human Services Programs and Activities.” The Order was issued with the desire to foster the intergovernmental partnership and strengthen federalism by relying on State and local processes for the coordination and review of proposed Federal financial assistance and direct Federal development. Under the Order, States may design their own processes for reviewing and commenting on proposed Federal assistance under covered programs and designate an entity to perform this function. The official list of those entities can be found at http://www.whitehouse.gov/omb/grants/spoc.html or by calling the ACYF Operations Center at 1-800-351-2293.

Applicants must submit any required material to the SPOCs as early as possible so that the program office can obtain and review SPOC comments as part of the award process. The applicant must submit all required materials, if any, to the SPOC and indicate the date of this submittal (or date of contact if no submittal is required) on the Standard Form 424, item 16a.

Under 45 CFR 100.8(a)(2), a SPOC has 60 days from the application deadline date to comment on proposed new awards. SPOCs are encouraged to eliminate the submission of routine endorsements as official recommendations. Additionally, SPOCS are requested to clearly differentiate between mere advisory comments and those official State process recommendations which they intend to trigger the “accommodate or explain” rule. When comments are submitted directly to ACYF, they must be addressed to: Department of Health and Human Services, Administration on Children, Youth and Families, 330 C Street, SW, Washington, DC 20447, Attention: Grants Officer.

Dated: February 14, 2002.
Joan E. Ohl,
Commissioner, Administration on Children, Youth and Families.

[FR Doc. 02-4122 Filed 2-20-02; 8:45 am]

BILLING CODE 4184-01-P